DEPARTMENT OF DEFENSE

Department of the Army

Availability for Non-Exclusive, Exclusive, or Partially Exclusive Licensing of U.S. Patent Application Concerning Adaptation of Virus to Vertebrate Cells

AGENCY: U.S. Army Medical Research and Materiel Command, DoD.

ACTION: Notice.

SUMMARY: In accordance with 37 CFR 404.6, announcement is made of the availability for licensing of U.S. Patent Application Serial Number 09/534,724 entitled “Adaptation of Virus to Vertebrate Cells”, filed March 24, 2000. Foreign rights are also available. This patent application has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: The invention provides a method for replicating virus to higher titer in cultured mammalian cells by infecting the mammalian cells with the high titer virus strain to obtain infected cells. Specifically, attenuated dengue virus strains of serotype 1,2,3, and 4. The resulting replicated virus is suitable for use in vaccines and vaccination methods which are also provided by the invention.

Gregory D. Showalter,
Army Federal Register Liaison Officer.

[FR Doc. 00-21795 Filed 8-24-00; 8:45 am]

BILLING CODE 3710-08-U